DEPARTMENT OF ENERGY

Bonneville Power Administration

Willow Creek Wind Project

AGENCY: Bonneville Power Administration (BPA), Department of Energy (DOE).

ACTION: Notice of Availability of Record of Decision (ROD).

SUMMARY: The Bonneville Power Administration (BPA) has decided to offer contract terms for the electrical interconnection into the Federal Columbia River Transmission System (FCRTS) of up to 72 megawatts of power to be generated by the proposed Willow Creek Wind Project (Wind Project). Willow Creek Energy, LLC proposes to construct and operate the proposed Wind Project in Gilliam and Morrow counties, Oregon, and has requested interconnection to the FCRTS at a point along BPA's existing Tower Road-Alkali 115-kilovolt transmission line in Gilliam County, Oregon. BPA will construct a tap to allow the Wind Project to interconnect to BPA's transmission line, and will install new equipment at BPA's existing Boardman Substation in Morrow County, Oregon to accommodate this additional power in the FCRTS. This decision to interconnect the Wind Project is consistent with and tiered to BPA's Business Plan Final Environmental Impact Statement (DOE/EIS-0183, June 1995), and Business Plan ROD (August 1995).

ADDRESSES: Copies of this tiered ROD and the Business Plan EIS and ROD may be obtained by calling BPA's toll-free document request line, 1-800-622-4520. The RODs and EIS are also available on our Web site, www.efw.bpa.gov.

FOR FURTHER INFORMATION, CONTACT: Doug Corkran, Bonneville Power Administration—KEC-4, P.O. Box 3621, Portland, Oregon, 97208-3621; toll-free telephone number 1-800-622-4519; fax number 503-230-5699; or e-mail dfcorkran@bpa.gov.

Issued in Portland, Oregon, on June 4, 2008.
Stephen J. Wright,
Administrator and Chief Executive Officer.

[FR Doc. E8-14610 Filed 6-26-08; 8:45 am]

BILLING CODE 6450-01-P